NUCLEAR REGULATORY COMMISSION

[Docket Nos. 50-445 and 50-446]

Luminant Generation Company LLC; Notice of Withdrawal of Application for Amendment to Facility Operating Licenses

The U.S. Nuclear Regulatory Commission (NRC, the Commission) has granted the request of Luminant Generation Company LLC (the licensee) to withdraw its January 18, 2007, application for an amendment to Facility Operating License Nos. NPF-87 and NPF-89 for the Comanche Peak Steam Electric Station, Units 1 and 2, located in Hood County, Texas.

The proposed amendment would have revised Technical Specification 3.8.1 to extend the 72-hour completion time for one inoperable diesel generator to 14 days, provided an alternate AC [alternating current] power source was available.

The Commission had previously issued a Notice of Consideration of Issuance of Amendment to Facility Operating Licenses, Proposed No Significant Hazards Consideration Determination, and Opportunity for a Hearing, published in the Federal Register on April 10, 2007 (72 FR 17952). However, by letter dated January 30, 2008, the licensee withdrew the proposed change.

For further details with respect to this action, see the application for amendment dated January 18, 2007 (Agencywide Documents Access and Management System (ADAMS) Accession No. ML070230493), and the licensee's letter dated January 30, 2008 (ADAMS Accession No. ML080390310), which withdrew the application for license amendment. Documents may be examined, and/or copied for a fee, at the NRC's Public Document Room (PDR), located at One White Flint North, Public File Area O1 F21, 11555 Rockville Pike (first floor), Rockville, Maryland. Publicly available records are accessible electronically from the ADAMS Public Electronic Reading Room on the internet at the NRC Web site, http://www.nrc.gov/reading-rm.html. Persons who do not have access to ADAMS or who encounter problems in accessing the documents located in ADAMS should contact the NRC PDR Reference staff by telephone at 1-800-397-4209, or 301-415-4737 or by email to pdr@nrc.gov.

Dated at Rockville, Maryland, this 21st day of May, 2008.
For the Nuclear Regulatory Commission.
Balwant K. Singal,
Senior Project Manager, Plant Licensing Branch IV, Division of Operating Reactor Licensing, Office of Nuclear Reactor Regulation.

[FR Doc. E8-12492 Filed 6-3-08; 8:45 am]

BILLING CODE 7590-01-P